DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Services Grant Program for Residential Treatment for Pregnant and Postpartum Women (PPW) Quarterly Progress Reports—NEW

The Substance Abuse and Mental Health Services Administration (SAMHSA), Center for Substance Abuse Treatment, has developed a set of infrastructure development measures in which recipients of cooperative agreements will report on various benchmarks on a quarterly-annual basis. The infrastructure development measures are designed to collect information at the grantee-level and program-level.

The draft infrastructure measures are based on the programmatic requirements conveyed in TI-14-005, Services Grant Program for Residential Treatment for Pregnant and Postpartum Women.

The purpose of this program is to provide funding to improve treatment for low-income (according to federal poverty guidelines) women, age 18 and over, who are pregnant, postpartum (the period after childbirth up to 12 months), and their minor children, age 17 and under, who have limited access to quality health services.

The pregnant and postpartum women program will implement parenting and treatment evidence-based practice models and a feedback loop developed to enable the grantee and the programs to identify barriers and test solutions through direct services. The expected outcomes of these grants will include decreases in the use and/or abuse of prescription drugs, alcohol, tobacco, illicit and other harmful drugs (e.g., inhalants) among pregnant and postpartum women; increases in safe and healthy pregnancies; improved birth outcomes; reduced perinatal and environmentally-related effects of maternal and/or paternal drug abuse on infants and children; improved mental and physical health of women and children; prevention of mental, emotional, and behavioral disorders among the children; improved parenting skills, family functioning, economic stability, and quality of life; decreased involvement in and exposure to crime, violence, and neglect; and decreased physical, emotional, and sexual abuse for all family members. Women, their adolescents/children (up to age 17), fathers, and other family members who are provided services through grant funds will inform the process to improve systems issues.

Annual Data Collection Burden Data Collection Burden
Instrument/activity | Number of respondents | Responses per respondent | Total responses | Hours per response | Total hour burden
Progress Report | 25 | 4 | 100 | 8 | 800

Written comments and recommendations concerning the proposed information collection should be sent by April 14, 2016 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2016-05770 Filed 3-14-16; 8:45 am]

BILLING CODE 4162-20-P